EXPORT-IMPORT BANK OF THE UNITED STATES

Sunshine Act Meeting

ACTION: Notice of a Partially open meeting of the Board of Directors of the Export-Import Bank of the United States.

TIME AND PLACE: Monday, August 9, 2004, at 11 a.m. The meeting will be held at Ex-Im Bank in Room 1143, 811 Vermont Avenue, NW., Washington, DC 20571.

OPEN AGENDA ITEM: New Product: Dealer Insurance Policy.

PUBLIC PARTICIPATION: The meeting will be open to public participation for Item No. 1 only.

FOR FURTHER INFORMATION CONTACT: For further information, contact: Office of the Secretary, 811 Vermont Avenue, NW., Washington, DC 20571 (Tele. No. 202-565-3957).

James K. Hess,
Senior Vice President and Chief Financial Officer.

[FR Doc. 04-17711 Filed 7-30-04; 9:55 am]

BILLING CODE 6690-01-M